NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: June 24, 2002, from 10 a.m. to 11 a.m.

ADDRESSES: Whittall Pavilion, Library of Congress, Thomas Jefferson Building, Ground Floor.

FOR FURTHER INFORMATION CONTACT: Michael L. Gillette, Director, Center for Legislative Archives, (202) 501-5350.

SUPPLEMENTARY INFORMATION:

Agenda

Report of the task force on the Congressional Papers Roundtable Forum Legislative records outside of official custody Activities report of the Center for Legislative Archives Other current issues and new business.

The meeting is open to the public.

Dated: May 29, 2002.
Mary Ann Hadyka,
Committee Management Officer.

[FR Doc. 02-13995 Filed 6-4-02; 8:45 am]

BILLING CODE 7515-01-P